DEPARTMENT OF LABOR

Employment and Training Administration

[TA-W-41,230]

Eagle-Picher Industries, Seneca, MO; Notice of Termination of Investigation

Pursuant to section 221 of the Trade Act of 1974, an investigation was initiated on April 8, 2002, in response to a worker petition filed on behalf of workers at Eagle-Picher Industries, Seneca, Missouri.

The petitioning group of workers is subject to an ongoing investigation for which a determination has not yet been issued (TA-W-41,211). Consequently, further investigation in this case would serve no purpose, and the investigation has been terminated.

Signed at Washington, DC this 1st day of May, 2002.
Linda G. Poole,
Certifying Officer, Division of Trade Adjustment Assistance.

[FR Doc. 02-12391 Filed 5-16-02; 8:45 am]

BILLING CODE 4510-30-M